DEPARTMENT OF DEFENSE

Department of the Navy

Notice of Intent To Grant a Partially Exclusive Patent License; TransMembrane Bioscience, Inc.

AGENCY: Department of the Navy, DoD.

ACTION: Notice.

SUMMARY: The Department of the Navy hereby gives notice of its intent to grant to TranMembrane Bioscience, Inc., a revocable, nonassignable, partially exclusive license to practice worldwide the Government owned inventions described in U.S. Patent No. 7,329,503: Recombinant antigens for the detection of Coxiella burnetii; U.S. Patent No. 7,824,875: Recombinant antigens for the detection of Coxiella burnetii; and U.S. Patent No. 7,824,909: Recombinant antigens for the detection of Coxiella burnetii in the field of “Development of human and veterinary diagnostic assays for the detection of prior exposure to Coxiella burnetii infection by antibody-based assays using recombinant, immunodominant C. burnetii polypeptides and the development of veterinary vaccines to prevent C. burnetii infections.”

DATES: Anyone wishing to object to the grant of this license must file written objections along with supporting evidence, if any, not later than August 9, 2011.

ADDRESSES: Written objections are to be filed with the Office of Technology Transfer, Naval Medical Research Center, 503 Robert Grant Ave., Silver Spring, MD 20910-7500.

FOR FURTHER INFORMATION CONTACT: Roxanne Charles, Office of Legal and Technology Services, Naval Medical Research Center, 503 Robert Grant Ave., Silver Spring, MD 20910-7500, telephone 301-319-9846.

Dated: July 19, 2011.
L. M. Senay,
Lieutenant, Judge Advocate General's Corps, U.S. Navy, Federal Register Liaison Officer.

[FR Doc. 2011-18765 Filed 7-22-11; 8:45 am]

BILLING CODE 3810-FF-P